FEDERAL DEPOSIT INSURANCE CORPORATION

[OMB No. 3064-0026; -0178; -0191]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0026; -0178 and -0191).

DATES: Comments must be submitted on or before August 22, 2025.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Reporting Requirements for Transfer Agents.

OMB Number: 3064-0026.

Form Number: TA-1.

Affected Public: Private sector, insured state nonmember banks and state savings associations.

Burden Estimate:

Summary of Estimated Annual Burden (OMB No. 3064-0026)
Information Collection (IC) (obligation to respond) | Type of burden (frequency of response) | Number of respondents | Number of responses per respondent | Average time per response (HH:MM) | Annual burden (hours)
1. Transfer Agent Registration, 12 CFR 341.3 (Mandatory) | Reporting (Occasional) | 1 | 1 | 01:15 | 1
2. Transfer Agent Amendment, 12 CFR 341.4 (Mandatory) | Reporting (Occasional) | 1 | 1 | 00:10 | 0
3. Transfer Agent Deregistration, 12 CFR 341.5 (Mandatory) | Reporting (Occasional) | 1 | 1 | 00:25 | 0
Total Annual Burden (Hours) |  |  |  |  | 1
Source: FDIC.

General Description of Collection: Section 17A(c) of the Security Exchange Act of 1934 (the Act) requires all transfer agents for securities registered under section 12 of the Act or, if the security would be required to be registered except for the exemption from registration provided by section 12(g)(2)(B) or section 12(g)(2)(G), to “fil[e] with the appropriate regulatory agency . . . an application for registration in such form and containing such information and documents . . . as such appropriate regulatory agency may prescribe as necessary or appropriate in furtherance of the purposes of this section.” In general, an entity performing transfer agent functions for a security is required to register with its appropriate regulatory agency if the security is registered on a national securities exchange or if the issuer of the security has total assets exceeding $10 million and a class of equity security held of record by 2,000 persons or, for an issuer that is not a bank, bank holding company, or savings and loan holding company, by 500 persons who are not accredited investors. The Federal Reserve Board of Governors' Regulation H (12 CFR 208.31(a)) and Regulation Y (12 CFR 225.4(d)), the OCC's 12 CFR 9.20, and the FDIC's 12 CFR part 341 implement these provisions of the Act. To accomplish the registration of transfer agents, Form TA-1 was developed in 1975 as an interagency effort by the Securities and Exchange Commission and the agencies. The agencies primarily use the data collected on Form TA-1 to determine whether an application for registration should be approved, denied, accelerated or postponed, and they use the data in connection with their supervisory responsibilities. There is no change in the methodology or substance of this information collection. The estimated burden remains unchanged from the previous submission.

2. Title: Market Risk Capital Requirements.

OMB Number: 3064-0178.

Form Number: None.

Affected Public: Insured State nonmember banks and State savings associations.

Burden Estimate:

Summary of Estimated Annual Burden (OMB No. 3064-0178)
Information Collection (IC) (obligation to respond) | Type of burden (frequency of response) | Number of respondents | Number of responses per respondent | Average time per response (HH:MM) | Annual burden (hours)
1. Prior Approval, 12 CFR 324.203(c)(1), 324.203(c)(2), 324.204(a)(2)(vi)(B), 324.206(b)(3), 324.208(a), 324.209(a) (Mandatory) | Reporting (Annual) | 1 | 1 | 128:00 | 128
2. Policies and Procedures, 12 CFR 324.203(a)(1), 324.203(b)(1), 324.203(b)(2), 324.206(b)(3) (Mandatory) | Recordkeeping (Annual) | 1 | 1 | 112:00 | 112
3. Trading and Hedging Strategy, 12 CFR 324.203(a)(2) (Mandatory) | Recordkeeping (Annual) | 1 | 1 | 16:00 | 16
4. General Recordkeeping, 324.203(f) (Mandatory) | Recordkeeping (Annual) | 1 | 1 | 24:00 | 24
5. Back testing, 12 CFR 324.205(c) (Mandatory) | Recordkeeping (Annual) | 1 | 1 | 24:00 | 24
6. Stress testing, 12 CFR 324.209(c)(2) (Mandatory) | Recordkeeping (Annual) | 1 | 4 | 08:00 | 32
7. Securitizations, 12 CFR 324.210(f)(1) (Mandatory) | Recordkeeping (Annual) | 1 | 1 | 08:00 | 8
8. Disclosure Policy, 12 CFR 324.212(b) (Mandatory) | Recordkeeping (Annual) | 1 | 1 | 40:00 | 40
9. Quantitative Disclosure, 12 CFR 324.212(c) (Mandatory) | Disclosure (Annual) | 1 | 4 | 08:00 | 32
10. Qualitative Disclosure, 12 CFR 324.212(d) (Mandatory) | Disclosure (Annual) | 1 | 1 | 12:00 | 12
Total Annual Burden (Hours) |  |  |  |  | 428
Source: FDIC.

General Description of Collection: The FDIC's market risk capital rules (12 CFR part 324, subpart F) enhance risk sensitivity, increase transparency through enhanced disclosures and include requirements for the public disclosure of certain qualitative and quantitative information about the market risk of State nonmember banks and State savings associations (covered FDIC-supervised institutions). The market risk rule applies only if a bank holding company or bank has aggregated trading assets and trading liabilities equal to 10 percent or more of quarter-end total assets or $1 billion or more (covered FDIC-supervised institutions). Currently, only one FDIC regulated entity meets the criteria of the information collection requirements that are located at 12 CFR 324.203 through 324.212. The collection of information is necessary to ensure capital adequacy appropriate for the level of market risk. Section 324.203(a)(1) requires covered FDIC-supervised institutions to have clearly defined policies and procedures for determining which trading assets and trading liabilities are trading positions and specifies the factors a covered FDIC-supervised institution must take into account in drafting those policies and procedures. Section 324.203(a)(2) requires covered FDIC supervised institutions to have clearly defined trading and hedging strategies for trading positions that are approved by senior management and specifies what the strategies must articulate. Section 324.203(b)(1) requires covered FDIC-supervised institutions to have clearly defined policies and procedures for actively managing all covered positions and specifies the minimum requirements for those policies and procedures. Sections 324.203(c)(4) through (10) require the annual review of internal models and specify certain requirements for those models. Section 324.203(d) requires the internal audit group of a covered FDIC supervised institution to prepare an annual report to the board of directors on the effectiveness of controls supporting the market risk measurement systems. Section 324.204(b) requires covered FDIC-supervised institutions to conduct quarterly back testing. Section 324.205(a)(5) requires institutions to demonstrate to the FDIC the appropriateness of proxies used to capture risks within value-at-risk models. Section 324.205(c) requires institutions to develop, retain, and make available to the FDIC value-at-risk and profit and loss information on sub portfolios for two years. Section 324.206(b)(3) requires covered FDIC supervised institutions to have policies and procedures that describe how they determine the period of significant financial stress used to calculate the institution's stressed value-at-risk models and to obtain prior FDIC approval for any material changes to these policies and procedures. Section 324.207(b)(1) details requirements applicable to a covered FDIC-supervised institution when the covered FDICsupervised institution uses internal models to measure the specific risk of certain covered positions. Section 324.208 requires covered FDIC-supervised institutions to obtain prior written FDIC approval for including equity positions in its incremental risk modeling. Section 324.209(a) requires prior FDIC approval for the use of a comprehensive risk measure. Section 324.209(c)(2) requires covered FDIC-supervised institutions to retain and report the results of supervisory stress testing. Section 324.210(f)(2)(i) requires covered FDIC-supervised institutions to document an internal analysis of the risk characteristics of each securitization position in order to demonstrate an understanding of the position. Section 324.212 applies to certain covered FDIC-supervised institutions that are not subsidiaries of bank holding companies, and requires quarterly quantitative disclosures, annual qualitative disclosures, and a formal disclosure policy approved by the board of directors that addresses the approach for determining the market risk disclosures it makes. The total estimated annual burden is 428 hours, which is a reduction of 4,032 hours from the 2022 submission. This reduction is due to a change in agency estimates. The FDIC's estimates significantly lowered because respondent institutions have generally already received prior approval for incremental risk modeling and the use of a comprehensive risk measure for one or more portfolios of correlation trading positions. Therefore, the agency predicts these respondents will not re-submit these models for approval, reducing the overall burden hours.

3. Title: Interagency Guidance on Leveraged Lending.

OMB Number: 3064-0191.

Form Number: None.

Affected Public: Insured State nonmember banks and savings associations.

Burden Estimate:

Summary of Estimated Annual Burden (OMB No. 3064-0191)
Information Collection (IC) (obligation to respond) | Type of burden (frequency of response) | Number of respondents | Number of responses per respondent | Average time per response (HH:MM) | Annual burden (hours)
1. Interagency Guidance on Leveraged Lending—Implementation, 12 U.S.C. 1831p-1 and 12 CFR 364 (Voluntary) | Recordkeeping (On Occasion) | 1 | 1 | 987:00 | 987
2. Interagency Guidance on Leveraged Lending—Ongoing, 12 U.S.C. 1831p-1 and 12 CFR 364 (Voluntary) | Recordkeeping (On Occasion) | 3 | 15.3 | 529:00 | 24,334
Total Annual Burden (Hours) |  |  |  |  | 25,321
Source: FDIC.

General Description of Collection: The Interagency Guidance on Leveraged Lending (Guidance) outlines for agency-supervised institutions high-level principles related to safe-and-sound leveraged lending activities, including underwriting considerations, assessing and documenting enterprise value, risk management expectations for credits awaiting distribution, stress testing expectations, pipeline portfolio management, and risk management expectations for exposures held by the institution. The total estimated annual burden for this information collection is 25,321 hours. This represents an increase of 23,805 from the 2023 information collection. The increase is driven by the change in methodology to estimate the annual number of responses per respondent based on an analysis of historical data and new data since the 2023 collection.

Request for Comment

Comments are invited on (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on June 17, 2025.
Jennifer M. Jones,
Deputy Executive Secretary.

[FR Doc. 2025-11419 Filed 6-20-25; 8:45 am]

BILLING CODE 6714-01-P